AGENCY FOR INTERNATIONAL DEVELOPMENT

Notice of June 12 Advisory Committee on Voluntary Foreign Aid Meeting

AGENCY: United States Agency for International Development.

ACTION: Notice of meeting.

SUMMARY: Pursuant to the Federal Advisory Committee Act, notice is hereby given of a meeting of the Advisory Committee on Voluntary Foreign Aid (ACVFA).

Date: Wednesday, June 12, 2013.

Time: 2:30 p.m. to 4:00 p.m.

Location: Horizon Room, Ronald Reagan Building 1300 Pennsylvania Ave. NW., Washington, DC 20523.

Agenda

USAID Administrator Rajiv Shah will make opening remarks, followed by a panel discussion on the creation of a Feed the Future Civil Society Action Plan, and an opportunity for public comment. A draft agenda will be forthcoming on the ACVFA Web site at http://www.usaid.gov/who-we-are/organization/advisory-committee.

Stakeholders

The meeting is free and open to the public. Persons wishing to attend should register online at http://www.usaid.gov/who-we-are/organization/advisory-committee/get-involved.

FOR FURTHER INFORMATION CONTACT: Sandy Stonesifer, 202-712-4372.

Dated: May 15, 2013.
Sandy Stonesifer,
Executive Director, Advisory Committee on Voluntary Foreign Aid (ACVFA), U.S. Agency for International Development.

[FR Doc. 2013-12137 Filed 5-21-13; 8:45 am]

BILLING CODE P